ENVIRONMENTAL PROTECTION AGENCY

40 CFR Part 52

[AL-060-200320(a); FRL-7487-1]

Approval and Promulgation of Implementation Plans: Revisions to the Alabama State Implementation Plan

AGENCY: Environmental Protection Agency (EPA).

ACTION: Direct final rule.

SUMMARY: The EPA is approving miscellaneous revisions to the Alabama State Implementation Plan submitted on March 13, 2003, by the State of Alabama. The revisions include addition of rule of chapter 335-3-1-.15 regarding emission inventory reporting requirements for stationary sources, revision of chapter 335-3-3 regarding removal, handling and disposal of asbestos-containing material, revision of chapter 335-3-8 to make minor technical corrections, and revision of chapter 335-3-17 to incorporate changes made to the Federal regulations regarding transportation conformity.

DATES: This direct final rule is effective June 23, 2003 without further notice, unless EPA receives adverse comment by May 27, 2003. If adverse comment is received, EPA will publish a timely withdrawal of the direct final rule in the Federal Register and inform the public that the rule will not take effect.

ADDRESSES: All comments should be addressed to: Sean Lakeman; Regulatory Development Section; Air Planning Branch; Air, Pesticides and Toxics Management Division; U.S. Environmental Protection Agency Region 4; 61 Forsyth Street, SW.; Atlanta, Georgia 30303-8960.

Copies of documents relative to this action are available at the following addresses for inspection during normal business hours:

Environmental Protection Agency, Region 4, Air Planning Branch, 61 Forsyth Street, SW., Atlanta, Georgia 30303-8960.

Alabama Department of Environmental Management, 400 Coliseum Boulevard, Montgomery, Alabama 36110-2059.

FOR FURTHER INFORMATION CONTACT: Sean Lakeman; Regulatory Development Section; Air Planning Branch; Air, Pesticides and Toxics Management Division; U.S. Environmental Protection Agency Region 4; 61 Forsyth Street, SW.; Atlanta, Georgia 30303-8960. Mr. Lakeman can also be reached by phone at (404) 562-9043 or by electronic mail at lakeman.sean@epa.gov.

SUPPLEMENTARY INFORMATION:

I. Analysis of State's Submittal

On March 13, 2003, the State of Alabama through Alabama Department of Environmental Management submitted revisions to chapter 335-3-1 regarding emission inventory reporting requirements for stationary sources, chapter 335-3-3 regarding removal, handling and disposal of asbestos-containing material, chapter 335-3-8 to make minor technical corrections, and revision of chapter 335-3-17 to incorporate changes made to the Federal regulations regarding transportation conformity.

Rule 335-3-1-.15 is being added to implement the Consolidated Emissions Reporting Rule and adopt the emissions inventory reporting requirements for stationary sources under the Federal Consolidated Emissions Reporting Rule.

Rule 335-3-3-.01(e) is being revised to incorporate a federal requirement for removal, handling and disposal of asbestos-containing material. The regulatory requirements for the demolition of a building by intentional burning is found in 40 CFR 61.145(c)(10).

Rule 335-3-8.10(6)(c) is being revised to clarify intent of the rule to ensure that base years later than 2000 would have an equivalent starting point of 90% data availability. Rule 335-3-8-.12(b)3(ii)(I) and (II) and 335-3-8-.12(b)4(i)(I) and (II) are being revised to make minor technical corrections.

Rule 335-3-17-.01 is being revised to incorporate changes made to the Federal regulations regarding transportation conformity. On August 6, 2002, EPA promulgated two minor revisions to the Transportation Conformity Rule under 40 CFR part 93. First, this rule implements a Clean Air Act (CAA) amendment that provides a one-year grace period before conformity is required in areas that are designated nonattainment for a given air quality standard for the first time. Although the grace period is already available to newly designated nonattainment areas as a matter of law, EPA has incorporated the one-year conformity grace period into the conformity rule. Second, this rule changes the point by which a conformity determination must be made following a State's submission of a control strategy implementation plan or maintenance plan for the first time. This rule requires conformity to be determined within 18 months of EPA's affirmative finding that the SIP's motor vehicle emissions budgets are adequate. Prior to this action, the conformity rule required a new conformity determination within 18 months of the submission of an initial SIP.

II. Final Action

EPA is approving the aforementioned changes to the State of Alabama's SIP because it is consistent with the CAA and EPA policy. The EPA is publishing this rule without prior proposal because the Agency views this as a noncontroversial submittal and anticipates no adverse comments. However, in the proposed rules section of this Federal Register publication, EPA is publishing a separate document that will serve as the proposal to approve the SIP revision should adverse comments be filed. This rule will be effective June 23, 2003 without further notice unless the Agency receives adverse comments by May 27, 2003.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on June 23, 2003 and no further action will be taken on the proposed rule. Please note that if we receive adverse comment on an amendment, paragraph, or section of this rule and if that provision may be severed from the remainder of the rule, we may adopt as final those provisions of the rule that are not the subject of an adverse comment.

III. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 23, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).) Under section 307(b)(1) of the Clean Air Act, petitions for judicial review of this action must be filed in the United States Court of Appeals for the appropriate circuit by June 23, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Intergovernmental relations, Nitrogen dioxide, Ozone, Particulate matter, Reporting and recordkeeping requirements, Volatile organic compounds.

Dated: April 15, 2003.
A. Stanley Meiburg,
Acting Regional Administrator, Region 4.

Chapter I, title 40, Code of Federal Regulations, is amended as follows:

PART 52—[AMENDED]

1. The authority citation for part 52 continues to read as follows:

Authority : 42 U.S.C. 7401 et seq.

Subpart B—Alabama

2. Section 52.50(c) is amended by:

a. Adding in numerical order a new entry in Chapter No. 335-3-1 General Provisions for “Section 335-3-1-.15”; and

b. Revising entries for “Section 335-3-3-.01”, “Section 335-3-8-.10”, and “Section 335-3-17-.01”.

The revisions and addition read as follows:

§ 52.50 Identification of plan.

* * * * *

(c) * * *

EPA Approved Alabama Regulations
State citation | Title/subject | State effective date | EPA approval date | Explanation
* * * * * * *
Section 335-3-1-.15 | Emissions Inventory Reporting Requirements | 04/03/03 | 04/24/03 [Insert citation of publication].
* * * * * * *
Section 335-3-3-.01 | Open Burning | 04/03/03 | 04/24/03 [Insert citation of publication].
* * * * * * *
Section 335-3-8-.10 | NOX Allowance Tracking System | 04/03/03 | 04/24/03 [Insert citation of publication].
* * * * * * *
Section 335-3-17-.01 | Transportation Conformity | 04/03/03 | 04/24/03 [Insert citation of publication].
* * * * * * *

* * * * *

[FR Doc. 03-10061 Filed 4-23-03; 8:45 am]

BILLING CODE 6560-50-U